NATIONAL SCIENCE FOUNDATION

Notice of Permit Applications Received Under the Antarctic Conservation Act of 1978 (P.L. 95-541)

AGENCY: National Science Foundation.

ACTION: Notice of permit applications received under the Antarctic Conservation Act of 1978, Public Law 95-541.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by October 6, 2003. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

The applications received are as follows:

1. Permit Application No. 2004-013.

Applicant: Gary D. Miller, Biology Department, University of New Mexico, Albuquerque, NM 87131-0001.

Activity for Which Permit is Requested: Take and Import into the United States. The applicant proposes to continue investigations of the diseases of penguins and skuas around the Australian station, Davis, in east Antarctica. He proposes to collect blood and or tissue samples from penguins, skuas, and other seabirds to address the impact diseases may have on the reproductive success of skuas. Previous studies have confirmed the presence of bacterial, viral, and parasitic agents in Antarctic populations. Human activity at scientific stations and/or from tourism is one potential source of disease introduction, however, it is thought that migratory birds such as South Polar Skuas, Kelp Gulls and Sheathbills act as natural vectors to introduce diseases to Antarctica. In addition to collecting blood and tissues samples the applicant plans to monitor the nesting success of skuas, and track adult skuas using small VHF transmitters.

In addition, the applicant will continue analysis of the phylogenetic relationships and population genetics of two major genera of penguins. Blood and tissue samples will be collected from Magellanic, Adelie, Chinstrap, Gentoo, Macaroni, and Emperor penguins throughout their distribution. The applicant will serve as a lecturer onboard a tourist vessel that will give him access to various areas in the Antarctic. All samples will be returned to Dr. Shellum's lab in Perth, Australia or the laboratory at the University of New Mexico for processing. All other remains will be archived.

Location: Davis Station, East Antarctica, and various coastal areas accessible via tourist vessels.

Dates: November 1, 2003, to April 1, 2005.

2. Permit Application No. 2004-014.

Applicant: Scott Borg, Head, Antarctic Sciences Section, Office of Polar Programs, National Science Foundation, 4201 Wilson Boulevard, Arlington, VA 22230.

Activity for Which Permit is Requested: Enter Antarctic Specially Protected Area. Annex V of the Environmental Protocol was adopted at the XXVI Antarctic Treaty Consultative Meeting in Madrid, Spain in June 2003, and requires permits for access to any of the Antarctic Specially Protected Areas. The applicant and his agents propose to enter the Arrival Heights ASPA 122 to continue scientific projects already in place. Principal investigators and their teams will work on projects that include, but are not limited to operation of an ELF/VLF receiver, riometer and magnetometer or studies of the earth's magnetic field and ionosphere, high latitude neutral mesospheric and thermospheric dynamics and thermodynamics, UV monitoring, aerosols investigations, and pollution surveys. Crary Lab science technicians also need to access the site daily for equipment monitoring, data acquisition, calibrations, and repairs. In addition, technical personnel will need to enter the site to monitor, maintain, or repair weather equipment. Lastly, personnel from the Facilities Engineering and Maintenance Center may be called upon to perform maintenance or repair functions at facilities within the site. This activity will be coordinated through the Crary Lab.

Location: ASPA 122—Arrival Heights, Hut Point Peninsula, Ross Island.

Dates: October 1, 2003, to September 30, 2004.

Nadene G. Kennedy,
Permit Officer, Office of Polar Programs.

[FR Doc. 03-22555 Filed 9-3-03; 8:45 am]

BILLING CODE 7555-01-M